DEPARTMENT OF LABOR

Employment and Training Administration

[TA-W-58,929]

Milprint, Inc., a Division of Bemis Company, Denmark, WI; Notice of Affirmative Determination Regarding Application for Reconsideration

By application of April 24, 2006, the United Steel Workers, Local 7-1203 (Union), requested administrative reconsideration of the Department of Labor's Notice of Negative Determination Regarding Eligibility to Apply for Worker Adjustment Assistance, applicable to workers of the subject firm. The Department's determination was issued on April 6, 2006. On April 18, 2006, the Department's Notice of determination was published in the Federal Register (71 FR 19900). The Union alleges that the subject firm increased imports of flexible packaging.

The Department has carefully reviewed the Union's request for reconsideration and has determined that the Department will conduct further investigation based on new information provided.

Conclusion

After careful review of the application, I conclude that the claim is of sufficient weight to justify reconsideration of the Department of Labor's prior decision. The application is, therefore, granted.

Signed at Washington, DC, this 10th day of May 2006.
Elliott S. Kushner,
Certifying Officer, Division of Trade Adjustment Assistance.

[FR Doc. E6-7522 Filed 5-16-06; 8:45 am]

BILLING CODE 4510-30-P